DEPARTMENT OF DEFENSE

Department of the Air Force

Notice of Intent To Prepare a Supplemental Environmental Impact Statement (SEIS) to the Final EIS for the Implementation of the Base Realignment and Closure (BRAC) 2005 Decisions and Related Actions at Eglin Air Force Base (AFB), FL

AGENCY: U.S. Air Force.

ACTION: Notice of Intent.

SUMMARY: Pursuant to the National Environmental Policy Act (NEPA) of 1969, as amended (42 United States Code 4321, et seq.), the Council on Environmental Quality Regulations for implementing procedural provisions of NEPA (40 Code of Federal Regulations (CFR) Parts 1500-1508), and Air Force policy and procedures (32 CFR Part 989), the Air Force is issuing this notice to advise the public of its intent to prepare a Supplemental Environmental Impact Statement (SEIS) evaluating potential environmental impacts associated with implementation of a portion of the 2005 BRAC Commission's recommendations and related actions for Eglin AFB, FL.

The Air Force “Record of Decision, Implementation of Base Realignment and Closure (BRAC) 2005 Decisions for the Joint Strike Fighter (JSF) Initial Joint Training Site (IJTS), Eglin AFB, Florida,” dated February 5, 2009, (FR Vol 74, No 34/February 23, 2009) (ROD) addressed the JSF IJTS, and resulted in a decision to implement a portion of the Final Environmental Impact Statement (FEIS) Alternative 1, that included the beddown of 59 F-35 Primary Assigned Aircraft (PAA), associated cantonment construction, and limited flight training operations. The ROD also determined that the intent of the National Environmental Policy Act (NEPA) would be furthered by accomplishing the SEIS, the scope of which is directed by the ROD.

The Air Force goal for the SEIS is to analyze the potential beddown of the 107 F-35 PAA discussed in the FEIS (Chap. 2, et al.) at Eglin AFB. Additional analysis of how to beddown the 59 F-35 PAA identified in the ROD and the consequences and potential mitigations associated with the beddown of up to 48 additional F-35 aircraft are the subjects of this SEIS, which is anticipated to be completed on or about September 2010. Where the maximum supportable number of F-35 aircraft may ultimately beddown on the Eglin Reservation, how they might be operated, and the degree to which other mitigation measures are possible are all subjects to be addressed in the SEIS. The Air Force intends to analyze a range of alternatives that will, among other things, maximize the number of flight training operations able to be conducted at Eglin AFB, preserve restricted airspace at Eglin AFB to the greatest extent possible, and consider future use of Eglin AFB as a training facility for the F-35.

The temporary operational limitations imposed in the ROD on F-35 flight training activities to avoid and minimize noise impacts will remain in place until the SEIS has been completed and the Air Force has decided how best to proceed.

The Air Force will conduct scoping meetings to solicit public input and help identify issues to be addressed in the SEIS. Oral and written comments presented at the public meetings, as well as written comments received by the Air Force during this scoping period and through public comment opportunities in the SEIS process, will be considered in the preparation of the SEIS and will be made a part of the administrative record.

Scoping meetings will be held as follows:

Date | City | Location | Meeting time
August 24, 2009 | Crestview | Crestview Community Center, 1446 Commerce Center, Crestview, Florida 32539 | 5:30 to 7:30 p.m.
August 25, 2009 | Navarre | Days Inn and Suites, Navarre Conference Center, 8700 Navarre Parkway, Navarre, Florida 32566 | 5:30 to 7:30 p.m.
August 26, 2009 | Niceville | Northwest Florida State College (Niceville Campus), 100 College Blvd. E, Niceville, Florida 32578 | 5:30 to 7:30 p.m.
August 27, 2009 | Valparaiso | First Baptist Church of Valparaiso Fellowship Hall, 444 Valparaiso Parkway, Valparaiso, Florida 32580 | 5:30 to 7:30 p.m.

Point of Contact: Please direct any written comments or requests for information to Mr. Michael Spaits, Public Affairs, AAC/EM-PAV, Eglin AFB, FL 32542-5000 (PH: 850-882-2878; mike.spaits@eglin.af.mil). Handicap assistance and translation service at the public meetings are available in advance through Mr. Spaits.

Bao-Anh Trinh,
Air Force Federal Register Liaison Officer.

[FR Doc. E9-18814 Filed 8-5-09; 8:45 am]

BILLING CODE 5001-05-P